DEPARTMENT OF COMMERCE

International Trade Administration

Restoring America's Travel Brand: A National Strategy to Compete for International Visitors; Request for Information

General Information

Document Type: Special Notice.

Solicitation Number: Reference-Number.

Posted Date: December 27, 2006.

Original Response Date: January 24, 2007.

Requesting Office Address

Department of Commerce, Office of Travel and Tourism Industries (OTTI), 14th & Constitution Avenue, NW, Room 1003, Washington, DC 20230.

Description/Background

In support of competitive goals established by the President of the United States, and in response to the white paper entitled Restoring America's Brand, A National Strategy to Compete for International Visitors, that was recently submitted to the Secretary of Commerce by the U.S. Travel and Tourism Advisory Board (TTAB), the U.S. Department of Commerce (DOC), International Trade Administration (ITA), Office of Travel & Tourism Industries (OTTI), is issuing this Request for Information (RFI) for assistance by interested government agencies, organizations, and industry businesses. The information requested may include:

• An assessment of, or comment on, the white paper presented by the Travel and Tourism Advisory Board, which can be found at: http://tinet.ita.doc.gov/TTAB/docs/2006_FINALTTAB_National_Tourism_Strategy.pdf.

• Respondents are highly encouraged to provide specific comments on the recommendations that are covered in the white paper, organized by the sections:

○ making it easier for people to visit by balancing hospitality with security,

○ asking people to visit the United States through a nationally coordinated marketing program, and

○ demonstrating the value of travel and tourism to the nation's economy.

• In addition, respondents are encouraged to provide comments/observations related to other areas of concern or issues that are not addressed in the white paper, such as:

○ sustainable tourism development,

○ medical tourism,

○ cultural heritage tourism development,

○ technical training/tours for business-to-business development,

○ education exchanges or attendance,

○ public-private partnerships, or

○ infrastructure challenges, to name a few.

Comments will serve in the development of policies and programs to be implemented by the federal government concerning the tourism sector.

The Government encourages both rigorous and creative solutions in response to this RFI.

How to Respond

The Department of Commerce is asking respondents to provide written input concerning any and all recommendations contained within the white paper submitted by the Travel and Tourism Advisory Board and other aspects of travel and tourism that may not be addressed in the white paper.

All responses should be e-mailed to either of the following members of the Office of Travel and Tourism Industries: julie.heizer@mail.doc.gov or Cynthia.warshaw@mail.doc.gov.

Please use reference: 2006 RFI Restoring America's Travel Brand, A National Strategy to Compete for International Visitors in the subject line of all correspondence. Please submit responses by January 19, 2007.

Input provided through this RFI may be representative of the collective opinion from a membership-wide survey of a travel and tourism industry trade association, or it can be submitted as the opinion of a single person. Any opinions or information received that are not specific to travel and tourism related issues will not be considered.

This RFI is issued solely for information and planning purposes and does not constitute a solicitation. All information received in response to this RFI that is marked “Proprietary” will be handled accordingly. Responses to the RFI will not be returned. In accordance with FAR 15.201(e), responses to this notice will not be considered an offer and cannot be accepted by the Government to form a binding contract. Interested parties are solely responsible for all expenses associated with responding to this RFI.

Additional information on the Travel and Tourism Advisory Board and the white paper submission may also be found at the Office of Travel & Tourism Industries Web site at: http://www.tinet.ita.doc.gov.

Points of Contact

Julie Heizer, Deputy Director, Industry Relations, Phone 202.482.4904, Fax 202.482.2887, E-mail julie.heizer@mail.doc.gov

Cynthia Warshaw, International Trade Specialist, Phone 202.482.4601, Fax 202.482.2887, E-mail Cynthia.warshaw@mail.doc.gov.

Place of Performance

Address: Washington, DC.

Postal Code: 20230.

Country: United States.

You will find the RFI on the OTTI Web site at: http://www.tinet.ita.doc.gov/.

Dated: December 20, 2006.
Helen N. Marano,
Director, Office of Travel & Tourism Industries.

[FR Doc. E6-22098 Filed 12-26-06; 8:45 am]

BILLING CODE 3510-DR-P